FEDERAL MARITIME COMMISSION

Sunshine Act Meeting

TIME AND DATE: June 6, 2018; 10:00 a.m.

PLACE: 800 N Capitol Street NW, First Floor Hearing Room, Washington, DC.

STATUS: This meeting will be open to the public and will be streamed live at https://bit.ly/2IZBIkY.

MATTER TO BE CONSIDERED:

Open Session

1. Staff Briefing on Monitoring of Ocean Carrier and Marine Terminal Operator Agreements

2. Docket No. 17-10: NVOCC Negotiated Rate Arrangements (NRAs) and NVOCC Service Arrangements (NSAs)

CONTACT PERSON FOR MORE INFORMATION: Rachel Dickon, Secretary, (202) 523-5725.

Rachel Dickon,
Secretary.

[FR Doc. 2018-11881 Filed 5-30-18; 11:15 am]

BILLING CODE 6731-AA-P